MILLENNIUM CHALLENGE CORPORATION

[MCC FR 13-03]

Notice of Quarterly Report (January 2013—March 31, 2013)

AGENCY: Millennium Challenge Corporation.

SUMMARY: The Millennium Challenge Corporation (MCC) is reporting for the quarter January 1, 2013, through March 31, 2013, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (www.mcc.gov) in accordance with section 612(b) of the Act.

Dated: May 20, 2013.
Paul C. Weinberger,
Vice President, Congressional and Public Affairs, Millennium Challenge Corporation.

Projects | Obligated | Objective | Cumulative Expenditures | Measures
Country: Armenia ⁵ Year: 2013 Quarter 2 Total Obligation: $176,550,239
Entity to which the assistance is provided: MCA Armenia Total Quarterly Expenditures¹:
Irrigated Agriculture Project (Agriculture and Water) | $153,716,023 | Increase agricultural productivity Improve and Quality of Irrigation | $153,716,023 | Training/technical assistance provided for On-Farm Water Management. Training/technical assistance provided for Post-Harvest Processing. Loans Provided. Value of irrigation feasibility and/or detailed design contracts signed. Value of irrigation feasibility and/or detailed design contracts disbursed.
|  |  |  | Number of farmers using better on-farm water management. Number of enterprises using improved techniques. Value of irrigation feasibility and/or detailed design contracts signed. Additional Land irrigated under project. Value of irrigation feasibility and/or detailed design contracts signed. Value of irrigation feasibility and/or detailed design contracts disbursed.
Rural Development Project |  |  |
Rural Road Rehabilitation Project | $8,441,028 | Better access to economic and social infrastructure | $8,441,028 | Average annual daily traffic on Pilot Roads. International roughness index for Pilot Roads.
|  |  |  | Road Sections Rehabilitated—Pilot Roads. Pilot Roads: Percent of Contracted Roads Works Disbursed of Works Completed.
Program Administration ², Due Diligence, Monitoring and Evaluation | $14,393,188 |  | $14,393,188
Pending subsequent reports ³ |  |  |

Projects | Obligated | Objective | Cumulative Disbursements | Measures ²
Country: Burkina Faso Year: 2013 Quarter 2 Total Obligation: $478,585,879
Entity to which the assistance is provided: MCA Burkina Faso Total Quarterly Disbursements ¹: $28,561,283
Roads Project | $ 194,039,560 | Enhance access to markets through investments in the road network | $ 47,804,584 | International Roughness Index: Sabou-Koudougou-Perkoa-Didyr. International Roughness Index: Dedougou-Nouna-Bomborukuy-Nouna Border.
|  |  |  | International Roughness Index: Banfora-Sindou. Kilometers of road under works contract (Primary roads).
|  |  |  | Access time to the closest market via paved roads in the Sourou and Comoe (minutes). Kilometers of road under works contract (Rural roads). Personnel trained in procurement, contract management and financial systems. Periodic road maintenance coverage rate (for all funds) (percent).
Rural Land Governance Project | $59,915,356 | Increase investment in land and rural productivity through improved land tenure security and land management | $20,996,240 | Trend in incidence of conflict over land rights reported in the 17 pilot communes (annual rate of change in the occurrence of conflicts over land rights). Legal and regulatory reforms adopted. Stakeholders reached by public outreach efforts.
|  |  |  | Personnel trained. Rural land service offices installed and functioning (Services Fonciers Ruraux). Rural hectares formalized. Extent of confidence in land tenure security.
Agriculture Development Project | $141,910,059 | Expand the productive use of land in order to increase the volume and value of agricultural production in project zones | $63,201,001 | New irrigated perimeters developed in Di (hectares). Value of contracts for irrigation systems works disbursed.
|  |  |  | Water Users' Associations leaders trained in the Sourou. Farmers trained. Households that have applied improved techniques. Agro-sylvo-pastoral groups that receive technical assistance. Loans provided by the rural finance facility. Volume of loans made to end borrowers by participating financial institutions using Rural Finance Facility funds ($ million).
Bright II Schools Project | $26,582,359 | Increase primary school completion rates | $ 26,840,570 | Girls and boys graduating from BRIGHT II primary schools. Percent of girls regularly attending (90 percent attendance) BRIGHT II schools. Girls enrolled in the MCC/USAID-supported BRIGHT II schools.
|  |  |  | Boys enrolled in the MCC/USAID-supported BRIGHT II schools. Educational facilities constructed or rehabilitated. Teachers trained through 10 provincial workshops.
Program Administration ³ and Control, Monitoring and Evaluation | $56,138,546 |  | $36,404,898
Pending Subsequent Report ⁴ |  |  | $583,505

Projects | Obligated | Objective | Cumulative Disbursements | Measures
Country: Cape Verde Year: 2013 Quarter 2 Total Obligation: $66,230,000
Entity to which the assistance is provided: MCA Cape Verde Total Quarterly Disbursements: $336,963
Land Management for Investment Projects | $17,260,000 | Increased investments in and value of property; improved ease of doing business; increased investments and value added in tourism; increased employment | $227,964 | Number of legal and regulatory reforms adopted. Number of stakeholders receiving formal on the job training or technical assistance regarding roles, responsibilities or new technologies. Field test of “Fieldwork Operations Manual” and methodology completed on Sal.
Water, Sanitation, and Hygiene Project | $41,030,000 | Increased access to improved water and sanitation; reduced household costs for water; reduced incidence of waterborne disease; improved capital accumulation; increase productive government spending | $ 4,254 | Value of implicit subsidy reduction. Service coverage by corporatized utilities (percent). Operating cost coverage (percent) (operational revenue/annual operating costs). Continuity of service (average hours of service per day for water supply). Objective measure of water quality (randomized water samples, fecal coliform counts, number per 100 mL). Non-revenue water for Multiple Municipal Utility(s). Individuals adopting improved WASH behaviors and practices (percent). Value of signed water and sanitation construction contracts. Percent disbursed of water and sanitation construction contracts.
Program Administration and Control | $6,550,000 |  | $711,678
Program Monitoring and Evaluation | $1,390,000 |  | $2,536
Not Applicable |  |  | $100,992

Projects | Obligated | Objective | Cumulative Disbursements | Measures ²
Country: El Salvador Year: 2013 Quarter 2 Total Obligation: $449,566,762
Entity to which the assistance is provided: MCA El Salvador Total Quarterly Disbursements ¹: $332,435
Human Development Project | $84,210,866 | Increase human and physical capital of residents of the Northern Zone to take advantage of employment and business opportunities | $84,210,865 | Non-formal trained students that complete the training. Students participating in MCC-supported education activities. Additional school female students enrolled in MCC-supported activities.
|  |  |  | Instructors trained or certified through MCC-supported activities. Educational facilities constructed/rehabilitated and/or equipped through MCC-supported activities. Households with access to improved water supply. Households with access to improved sanitation. Persons trained in hygiene and sanitary best practices. Households benefiting with a connection to the electricity network. Households benefiting with the installation of isolated solar systems. Kilometers of new electrical lines with construction contracts signed. Population benefiting from strategic infrastructure (number of people).
Connectivity Project | $270,051,380 | Reduce travel cost and time within the Northern Zone, with the rest of the country, and within the region | $270,051,380 | Average annual daily traffic on the Northern Transnational Highway. Travel time from Guatemala to Honduras through the Northern Zone (hours and minutes). Kilometers of roads completed.
Productive Development Project | $65,973,922 | Increase production and employment in the Northern Zone | $65,973,922 | Employment created (number of jobs). Investment in productive chains by selected beneficiaries (US $). Hectares under production with MCC support. Beneficiaries of technical assistance and training.
|  |  |  | Amount of Investment Support Fund (FIDENORTE) approved. Value of agricultural loans to farmers/agribusiness. Value of loans guaranteed. Guarantees granted.
Program Administration ³ and Control, Monitoring and Evaluation | $29,330,595 |  | $29,982,435
Pending Subsequent Report ⁴

Projects | Obligated | Objective | Cumulative Expenditures | Measures
Country: Georgia ⁵ Year: 2013 Quarter 2 Total Obligation: $387,178,520
Entity to which the assistance is provided: MCA Georgia Total Quarterly Disbursements ¹: $0
Regional Infrastructure Rehabilitation Project | $309,899,714 | Key Regional Infrastructure Rehabilitated | $309,899,714 | Household savings from Infrastructure Rehabilitation Activities. Savings in vehicle operating costs (VOC). International roughness index (IRI).
|  |  |  | Annual average daily traffic (AADT). Travel Time. Kilometers of road completed. Signed contracts for feasibility and/or design studies. Percent of contracted studies disbursed. Kilometers of roads under design. Signed contracts for road works. Kilometers of roads under works contracts. Sites rehabilitated (phases I, II, III)—pipeline. Construction works completed (phase II)—pipeline. Savings in household expenditures for all RID subprojects. Population Served by all RID subprojects. RID Subprojects completed. Value of Grant Agreements signed. Value of project works and goods contracts Signed. Subprojects with works initiated.
Regional Enterprise Development Project | $52,040,800 | Enterprises in Regions Developed | $52,040,699 | Jobs Created by Agribusiness Development Activity (ADA) and by Georgia Regional Development Fund (GRDF). Household net income—ADA and GRDF. Jobs created—ADA. Firm income—ADA. Household net income—ADA. Beneficiaries (direct and indirect)—ADA.
|  |  |  | Grant agreements signed—ADA. Increase in gross revenues of portfolio companies. Increase in portfolio company employees. Increase in wages paid to the portfolio company employees. Portfolio companies. Funds disbursed to the portfolio companies.
Program Administration², Due Diligence, Monitoring and Evaluation | $25,238,005 |  | $25,238,005
Pending subsequent reports³ |  |  | $101

Projects | Obligated | Objective | Cumulative Disbursements | Measures ²
Country: Ghana Year: 2013 Quarter 2 Total Obligation: $547,009,001
Entity to which the assistance is provided: MCA Ghana Total Quarterly Disbursements ¹: $3,218,877
Agriculture Project | $195,650,409 | Enhance profitability of cultivation, services to agriculture and product handling in support of the expansion of commercial agriculture among groups of smallholder farms | $188,504,431 | Farmers trained in commercial agriculture. Additional hectares irrigated. Hectares under production. Kilometers of feeder road completed. Percent of contracted feeder road works disbursed. Value of loans disbursed to clients from agriculture loan fund
|  |  |  | Portfolio-at-risk of Agriculture Loan Fund (percent). Cooling facilities installed. Percent of contracted irrigation works disbursed. Total parcels registered in the Pilot Land Registration Areas. Volume of products passing through post-harvest treatment.
Rural Development Project | $76,030,565 | Strengthen the rural institutions that provide services complementary to, and supportive of, agricultural and agriculture business development | $75,903,274 | Students enrolled in schools affected by Education Facilities Sub-Activity. Additional female students enrolled in schools affected by Education Facilities Sub-Activity. Individuals completing internships at Ministries, Departments and Agencies and Metropolitan, Municipal and District Assemblies. Schools rehabilitated. School blocks constructed. Distance to collect water. Households with access to improved water supply. Water points constructed. Kilometers of electricity lines identified and diligence. Inter-bank transactions. Rural banks automated under the Automation/Computerization and Interconnectivity of Rural Banks activity. Rural banks connected to the wide area network.
Transportation Project | $227,748,133 | Reduce the transportation costs affecting agriculture commerce at sub-regional levels | $224,364,904 | Agricultural processing plants in target districts with electricity due to Rural Electrification Sub-Activity. N1 Highway: annualized average daily traffic. N1 Highway: kilometers of road upgraded. Trunk roads kilometers of roads completed. Percent of contracted trunk road works disbursed.
|  |  |  | Ferry Activity: annualized average daily traffic vehicles. Ferry Activity: annual average daily traffic (passengers). Percent of contracted road works disbursed: N1 Highway, Lot 2. Percent of contracted road works disbursed: N1 Highway, Lot 2. Percent of contracted work disbursed: ferry and floating dock. Percent of contracted work disbursed: landings and terminals.
Program Administration ³, Due Diligence, Monitoring and Evaluation | $47,579,894 |  | $43,816,360
Pending subsequent reports ⁴ |  |  | $3,700,000
The negative disbursement relates to a return of funds to MCC upon MCA Ghana's closing.

Projects | Obligated | Objective | Cumulative Disbursements | Measures ²
Country: Jordan Year: 2013 Quarter 2 Total Obligation: $275,100,000
Entity to which the assistance is provided: MCA Jordan Total Quarterly Disbursements ¹: $7,757,405
|  |  |  | Network water consumption per capita (residential and non-residential); liters/capita/day.
|  | Zarqa Governorate |  | Operating cost coverage—Water Authority Jordan Zarqa. Non-revenue water (percent). Continuity of supply time; hours per week. Restructure and rehabilitate primary and secondary pipelines (kilometers). Restructure and rehabilitate tertiary pipelines (kilometers). Value disbursed of water construction contracts—Infrastructure Activity and Water Smart Homes Activity. Number of National Aid Fund households with improved water and wastewater network.
Wastewater Network Project | $54,274,261 | Improve the overall waste water system efficiency in Jordan's Zarqa Governorate | $5,510,980 | Sewer blockage events (annual). Volume of wastewater collected; cubic meters/year/million. Residential population connected to the sewer system. Expand Network (kilometers). Value disbursed of sanitation construction contracts.
As Samra Wastewater Treatment Plant Expansion Project | $98,703,598 | Increase the volume of treated waste water available as a substitute for fresh water in agriculture use | $26,358,889 | Treated wastewater used in agriculture (as a percent of all water used for irrigation in Northern and Middle Jordan Valley). Value disbursed of construction contracts. Total engineering, procurement and construction cost of As-Samra Expansion.
Program Administration ³ and Control, Monitoring and Evaluation | $19,552,107 |  | $1,131,364
Pending subsequent reports ⁴ |  |  | $60,545

Projects | Obligated | Objective | Cumulative Disbursements | Measures ²
Country: Lesotho Year: 2013 Quarter 2 Total Obligation: $362,551,000
Entity to which the assistance is provided: MCA Lesotho Total Quarterly Disbursements ¹: $19,499,883
Water Project | $167,886,999 | Improve the water supply for industrial and domestic needs, and enhance rural livelihoods through improved watershed management | $102,736,452 | Physical completion of Metolong water treatment works contract (percent). Physical completion of Urban Water supply works contracts (percent). People with access to rural water supply. Ventilated improved pit latrines built. Households with provisions to connect to water networks. Non-revenue water (percent). Knowledge of good hygiene practices (percent). Water points constructed.
Health Project | $121,377,822 | Increase access to life-extending antiretroviral therapy and essential health services by providing a sustainable delivery platform | $84,177,336 | People with HIV still alive 12 months after initiation of treatment. Health centers with required staff complement (full-time employees). Tuberculosis notification (per 100,000 people). Health centers equipped.
|  |  |  | Deliveries conducted in the health facilities. Physical completion of health center facilities (percent). Physical completion of outpatient departments (percent). Physical completion of the Botsabelo facilities (percent).
Private Sector Development Project | $27,386,470 | Stimulate investment by improving access to credit, reducing transaction costs and increasing the participation of women in the economy. | $18,926,853 | Time required to resolve commercial disputes (number of days). Cases filed at the commercial court. Debit/smart cards issued. Bonds registered.
|  |  |  | Urban land parcels regularized and registered. People trained on gender equality and economic rights. Stakeholders trained. Change in time for property transactions (percent). Women holding titles to land.
Program Administration ³ and Control, Monitoring and Evaluation | $45,899,709 |  | $33,093,336
Pending Subsequent Report ⁴ |  |  | $392,606

Projects | Obligated | Objective | Cumulative Disbursements | Measures ²
Country: Mali Year: 2013 Quarter 2 Total Obligation: $435,628,223
Entity to which the assistance is provided: MCA Mali Total Quarterly Disbursements ¹: $0
Bamako-Senou Airport Improvement Project | $143,403,391 |  | $143,403,391 | Annual foreign visitors, non-residents. Percent of work completed on the airside infrastructure. Percent of work completed on the landside infrastructure. Security and safety deficiencies corrected at the airport.
Alatona Irrigation Project | $252,895,691 | Increase the agricultural production and productivity in the Alatona zone of the Office du Niger | $252,895,691 | Cultivation intensity during the dry season (percent). Value of agricultural products sold by farmers (millions of francs CFA). Percent of works completed on Niono-Goma Coura road. Hectares under new irrigation. Percent of contracted irrigation construction works disbursed. Market gardens allocated in Alatona zones to populations affected by the project or New Settler women.
|  |  |  | Five-hectare farms distributed to new settlers. Rural hectares formalized. Net primary school enrollment rate (in Alatona zone). Functional producer organization. Hectares under production (rainy season). Hectares under production (dry season). Organisation d'exploitation des reseaux secondaires or water user associations established. Active microfinance institution clients.
Industrial Park Project | $2,637,472 | Terminated | $2,637,472
Program Administration ³ and Control, Monitoring and Evaluation | $36,691,668 |  | $36,691,668
Pending Subsequent Report ⁴
On May 4, 2012, the MCC Board of Directors concurred with the recommendation of MCC to terminate the Mali Compact following the undemocratic change of government in the country.

Projects | Obligated | Objective | Cumulative Disbursements | Measures ²
Country: Moldova Year: 2013 Quarter 2 Total Obligation: $262,000,000
Entity to which the assistance is provided: MCA Moldova Total Quarterly Disbursements ¹: $6,168,932
Road Rehabilitation Project | $132,840,000 | Enhance transportation conditions | $16,447,783 | Reduced cost for road users. Average annual daily traffic. Road maintenance expenditure. Kilometers of roads completed.
|  |  |  | Percent of contracted roads works disbursed. Children participants in the road safety trainings. Resettlement action plans implemented. Final design (date received). Trafficking in persons training participants.
Transition to High Value Agriculture Project | $101,773,402 | Increase incomes in the agricultural sector; create models for transition to high value agriculture in centralized irrigation system areas and an enabling environment (legal, financial and market) for replication | $14,944,816 | Hectares under improved or new irrigation. Centralized irrigation systems rehabilitated. Percent of contracted irrigation feasibility and/or design studies disbursed.
|  |  |  | Value of irrigation feasibility and/or detailed design contracts signed. Water user associations achieving financial sustainability. Management transfer agreements signed. Revised water management policy framework—with long-term water rights defined—established. Contracts of association signed. New HVA (High Value Agriculture) infrastructure in place (metric tonnes of cold storage capacity). Loans past due. Value of agricultural and rural loans. Loan borrowers. Loan borrowers (female). Value of sales facilitated. Farmers that have applied improved techniques (Growing High Value Agriculture Sales [GHS]). Farmers that have applied improved techniques (GHS) (female). Farmers trained. Farmers trained (female). Enterprises assisted. Enterprises assisted (female).
Program Administration ³ and Monitoring and Evaluation | $27,386,598 |  | $7,532,575
Pending Subsequent Report ⁴ |  |  | $93,201

Projects | Obligated | Objective | Cumulative Disbursements | Measures ²
Country: Mongolia Year: 2013 Quarter 2 Total Obligation: $284,911,363
Entity to which the assistance is provided: MCA Mongolia Total Quarterly Disbursements ¹: $8,095,943
Property Rights Project | $27,802,619 | Increase security and capitalization of land assets held by lower-income Mongolians, and increased peri-urban herder productivity and incomes | $22,501,193 | Wells completed. Legal and regulatory reforms adopted. Stakeholders trained (Peri-Urban and Land Plots). Herder groups limiting their livestock population to the carrying capacity of their leases on semi-intensive farms. Cost for property transactions (first time) (US $). Urban parcels formalized. Stakeholders trained (Ger Area Land Plots). Leaseholds Awarded.
Vocational Education Project | $46,946,824 | Increase employment and income among unemployed and underemployed Mongolians | $42,796,523 | Students participating in MCC-supported educational facilities. Nongovernmental funding of vocational education (percent). Instructors trained or certified through MCC-supported activities. Educational facilities constructed/rehabilitated or equipped through MCC-supported activities.
Health Project | $39,525,259 | Increase the adoption of behaviors that reduce noncommunicable diseases and injuries (NCDIs) among target populations and improved medical treatment and control of NCDIs | $30,030,971 | Screening for hypertension (percent). Early detections of cervical cancer—early diagnosis. Training of health staff by MCA Mongolia. Improved services in Non-Communicable Disease-Primary Health Care facilities (percent).
Roads Project | $88,440,123 | More efficient transport for trade and access to services | $39,893,934 | Kilometers of roads completed. Kilometers of roads under design. Percent of contracted roads works disbursed.
Energy and Environmental Project | $44,828,019 | Increased wealth and productivity through greater fuel use efficiency and decreasing health costs from air | $38,905,090 | Wind power dispatched from substation (million kilowatt hours). Heat only boilers sites upgraded. Stoves distributed by MCA Mongolia.
Rail Project | $369,560 | Terminated | $369,560 | Terminated.
Program Administration ³ and Control, Monitoring and Evaluation | $36,998,960 |  | $27,240,540
Pending subsequent reports ⁴ |  |  | $103,174

Projects | Obligated | Objective | Cumulative Disbursements | Measures ²
Country: Morocco Year: 2013 Quarter 2 Total Obligation: $697,500,000
Entity to which the assistance is provided: MCA Morocco Total Quarterly Disbursements ¹: $62,081,670
Fruit Tree Productivity Project | $337,737,281 | Reduce volatility of agricultural production and increase volume of fruit agricultural production | $238,600,706 | Farmers trained. Olive and date producers assisted. Percent of virgin and extra virgin olive oil of total olive oil production in targeted areas. Number of Catalyst Fund proposals approved. Disbursements under the Catalyst Fund (US $). Average agricultural revenue per farm in rehabilitation rain-fed areas (U.S. dollars). Area planted and delivered to farmers (hectares). Area in expansion perimeters for which water and soil conservation measures have been implemented (hectares). Yield of rehabilitated olive trees in rain-fed areas (metric tons per hectare) (“mt/ha”). Average agricultural revenue per farm in irrigated areas. Cumulative area of irrigated perimeters rehabilitated (hectares). Yield of rehabilitated olive trees in irrigated areas (mt/ha). Average agricultural revenue per farm in oasis areas. Hectares under improved irrigation. Yield of rehabilitated date palms in oasis areas (mt/ha). Number of in-vitro seedlings successfully planted.
Small Scale Fisheries Project | $124,916,716 | Improve quality of fish moving through domestic channels and assure the sustainable use of fishing resources | $69,431,892 | Boats benefitting from landing sites and ports. Number of artisan fishers who received a training certificate. Number of jobs created in wholesale fish markets. Per capita fish consumption in areas of new market construction (kg/year). Active mobile fish vendors trained and equipped by the project. Average price of fish at auction markets. Net annual income of mobile fish vendors.
Artisan and Fez Medina Project | $95,529,344 | Increase value added to tourism and artisan sectors | $44,556,090 | Total receiving literacy training. Graduates of MCC-supported functional literacy program (female). Graduates of MCC-supported functional literacy program (male). Total receiving professional training.
|  |  |  | Females receiving professional training. Graduates vocational training program (residential, apprenticeship and continuing education). Drop-out rates of participants of residential and apprenticeship programs. Potters trained. MCC-subsidized gas kilns bought by artisans. Adoption rate of improved production practices promoted by the project (percent). Tourist circuits improved or created. Number of small and medium enterprises (SMEs) that append the label on their products. Number of SMEs participating in promotion events. Sites constructed or rehabilitated (4 Fondouks, Place Lalla Ydouna, Ain Nokbi). Beneficiaries of Ain Nokbi construction and artisan resettlement program.
Enterprise Support Project | $15,124,722 | Improved survival rate of new small and medium enterprises (SMEs) and National Initiative for Human Development (INDH)-funded income generating activities; increased revenue for new SMEs and INDH-funded income generating activities | $14,479,013 | Survival rate after two years (percent). Days of individual coaching (total days). Beneficiaries trained.
Financial Services Project | $42,633,565 | To be determined | $29,768,858 | Portfolio at risk at 30 days (percent). Value of loans granted through mobile branches (U.S. dollars). Clients of microcredit associations reached through mobile branches. Value of loan agreements between Micro credit associations and Jaida (millions of dirhams). Value of loan disbursements to Jaida.
Program Administration ³ and Control, Monitoring and Evaluation | $81,558,382 |  | $56,104,881
Pending Subsequent Report ⁴

Projects | Obligated | Objective | Cumulative Disbursements | Measures ²
Country: Mozambique Year: 2013 Quarter 2 Total Obligation: $506,924,053
Entity to which the assistance is provided: MCA Mozambique Total Quarterly Disbursements ¹: $37,595,260
Water Supply and Sanitation Project | $207,385,393 | Increase access to reliable and quality water and sanitation facilities | $122,740,900 | Value of municipal sanitation and drainage systems construction contracts signed. Amount disbursed for municipal sanitation and drainage construction contracts. Volume of water produced. Value of contracts signed for construction of water systems.
|  |  |  | Percent of construction contract disbursed for water systems. Rural water points constructed. Percent of rural population of the six intervention districts with access to improved water sources. Amount disbursed for rural water points construction contracts. Persons trained in hygiene and sanitary best practices.
Road Rehabilitation Project | $176,307,480 | Increase access to productive resources and markets | $76,178,321 | Percent of roads works contracts disbursed. Kilometers of roads issued “Take-over Certificates”.
Land Tenure Project | $40,068,307 | Establish efficient, secure land access for households and investors | $28,762,316 | People trained (paralegal courses at Centre for Juridical and Judicial Training, general training at National Directorate of Land and Forest, etc.). Land administration offices established or upgraded. Rural hectares mapped. Urban parcels mapped. Rural hectares formalized. Urban parcels formalized. Communities delimited.
Farmer Income Support Project | $19,250,117 | Improve coconut productivity and diversification into cash crop | $15,733,113 | Coconut seedlings planted. Survival rate of coconut seedlings (percent). Hectares of alternate crops under production. Farmers trained in surveillance and pest and disease control for coconuts.
|  |  |  | Farmers trained in alternative crop production and productivity enhancing strategies. Farmers trained in planting and post-planting management of coconuts. Farmers using alternative crop production and productivity enhancing strategies. Businesses receiving Business Development Fund grants.
Program Administration ³ and Control, Monitoring and Evaluation | $63,912,756 |  | $37,699,449
Pending Subsequent Report ⁴ |  |  | $1,696,023

Projects | Obligated | Objective | Cumulative Disbursements | Measures ²
Country: Namibia Year: 2013 Quarter 2 Total Obligation: $304,477,815
Entity to which the assistance is provided: MCA Namibia Total Quarterly Disbursements ¹: $14,957,484
Education Project | $141,602,809 | Improve the quality of the workforce in Namibia by enhancing the equity and effectiveness of basic | $68,755,417 | Learners (any level) participating in the 47 schools sub-activity. Educational facilities constructed, rehabilitated, equipped in the 47 schools sub-activity. Percent of contracted construction works disbursed for 47 schools. Textbooks delivered. Educators trained to be textbook management trainers. Educators trained to be textbook utilization trainers. Percent disbursed against works contracts for Regional Study Resource Centers Activity.
|  |  |  | Visits to MCA Namibia assisted Regional Study and Resource Centres. Compliance rate for National Training Fund (NTF) levy. Graduates from MCC-supported education activities. Percent disbursed against construction, rehabilitation, and equipment contracts for Community Skills and Development Centres. Namibia Student Financial Assistance Fund Policy in place (date).
Tourism Project | $68,631,170 | Grow the Namibian tourism industry with a focus on increasing income to households in communal | $18,976,380 | Tourists to Etosha National Park (ENP). Galton Gate Plan implemented (percent). Percent disbursed against construction, rehabilitation and equipment contracts for ENP housing units/management structures. Number of game translocated with MCA Namibia support.
|  |  |  | Unique visits on Namibia Tourism Board website. Leisure tourist arrivals. North American tourism businesses (travel agencies and tour operators) that offer Namibian tours or tour packages. Value of grants issued by the conservancy grant fund (Namibian dollars). Amount of new private sector investment secured by MCA Namibia assisted conservancies (Namibian dollars). Annual gross revenue to conservancies receiving MCA Namibia assistance.
Agriculture Project |  | Enhance the health and marketing efficiency of livestock in the NCAs of Namibia and to increase income |  | Participating households registered in the Community-Based Rangeland and Livestock Management sub-activity. Grazing areas with documented combined management plans. Parcels corrected or incorporated in land system. Stakeholders trained. Cattle tagged with radio frequency identification tags. Percent disbursed against works contracts for State Veterinary Offices. Value of grant agreements signed under Livestock Market Efficiency Fund. Farmers trained. Value of grant agreements signed under Indigenous Natural Product Innovation Fund.
Program Administration ³ and Control, Monitoring and Evaluation | $42,957,491 |  | $23,850,449
Pending Subsequent Report ⁴ |  |  | $2,212,249

Projects | Obligated | Objective | Cumulative Disbursements | Measures ²
Country: Philippines Year: 2013 Quarter 2 Total Obligation: $433,910,000
Entity to which the assistance is provided: MCA Philippines Total Quarterly Disbursements ¹: $18,335,082
Kalahi-CIDSS Project |  | Improve the responsiveness of local governments to community needs, encourage communities to engage in development activities |  | Percent of Municipal Local Government Units that provide funding support for Kalahi-CIDSS (KC) subproject operations and maintenance. Completed KC subprojects implemented in compliance with technical plans and within schedule and budget. Barangays that have completed specific training on subproject management and implementation.
Secondary National Roads Development Project | $214,493,000 | Reduce transportation costs and improve access to markets and social services | $27,440,528 | Kilometers of road sections completed. Bridges replaced. Bridges rehabilitated. Value of road construction contracts signed. Value of road construction contracts disbursed.
Revenue Administration Reform Project | $54,300,000 | Increase tax revenues over time and support the Department of Finance's initiatives to detect and deter corruption within its revenue agencies | $4,543,663 | Number of Audits. Revenue District Offices using the electronic tax information system. Percent of audit completed in compliance with prescribed period of 120 days. Percent of audit cases performed using automated audit tool. Successful case resolutions. Personnel charged with graft, corruption, lifestyle and/or criminal cases. Time taken to complete investigation (average).
Program Administration ³ and Control, Monitoring and Evaluation | $45,117,000 |  | $7,563,152
Pending Subsequent Reports ⁴ |  |  | $2,729,195
Community Development Grants Project | $120,000,000 |  | $9,775,519.47
Pending Subsequent Reports ⁴ |  |  | $4,550,234

Projects | Obligated | Objective | Cumulative Disbursements | Measures ²
Country: Senegal Year: 2013 Quarter 2 Total Obligation: $540,000,000
Entity to which the assistance is provided: MCA Senegal Total Quarterly Disbursements ¹: $29,626,253
Road Rehabilitation Project | $324,705,422 | Expand access to markets and services | $29,656,839 | Value of contracts signed for the feasibility, design, supervision and program management of the RN2 and RN6 National Roads. Percent of disbursements for the contract signed for the constructions of the RN 2 and RN6. Kilometers of roads rehabilitated on the RN2. Annual Average Daily Traffic (AADT) Richard-Toll—Ndioum. Percent change in travel time on the RN2. International Roughness Index on the RN2. Kilometers of roads covered by the contract for the studies, the supervision and management of the RN2.
|  |  |  | Kilometers of roads rehabilitated on the RN6. Annual Average Daily Traffic (AADT) Ziguinchor—Tanaff. Annual Average Daily Traffic (AADT) Tanaff—Kolda. Annual Average Daily Traffic (AADT) Kolda—Kounkané. Percent change in travel time on the RN6. International Roughness Index on the RN6 (lower number = smoother road). Kilometers of roads covered by the contract for the studies, the supervision and management of the RN6.
Irrigation and Water Resources Management Project | $170,008,860 | Improve productivity of the agricultural sector | $3,396,533 | Tons of irrigated rice production. Potentially irrigable lands area (Delta and Ngallenka). Hectares under production. Percent of the disbursements on the contracts signed for the studies in the Delta and the Ngallenka. Value of the construction contracts signed for the irrigation infrastructure in the Delta and the Ngallenka.
|  |  |  | Cropping intensity (hectares under production per year/cultivable hectares) (Delta and Ngallenka). Hectares mapped. New conflicts resolved (percent). People trained on land security tools. Women trained on land security tools.
Program Administration ³ and Monitoring and Evaluation | $45,285,718 |  | $11,773,489
Pending Subsequent Report ⁴ |  |  | $819,236

Projects | Obligated | Objective | Cumulative Disbursements | Measures ²
Country: Tanzania Year: 2013 Quarter 2 Total Obligation: $698,135,990
Entity to which the assistance is provided: MCA Tanzania Total Quarterly Disbursements ¹: $37,330,101
Energy Sector Project | $207,821,396 | Increase value added to businesses | $150,742,745 | Number of current power customers (Zanzibar). Transmission and distribution substations capacity (megawatt-peak) (Zanzibar). Technical and non-technical losses (Zanzibar) (percent). Kilometers of 132 kilovolt (KV) lines constructed (Zanzibar). Percent disbursed on overhead lines contract (Zanzibar). Number of Current power customers (Malagarasi/Kigoma). Capacity of systems installed (kilowatt-peak) (Malagarasi/Kigoma).
|  |  |  | Current power customers (all six project regions) (Mainland). Kilometers of 132 KV lines constructed (Mainland). Kilometers of 33/11KV lines constructed(Mainland). Transmission and distribution substations capacity (Megavolt Ampere) (all six project regions) (Mainland). Technical and nontechnical losses (Mainland) (percent). Cost recovery ratio (Mainland).
Transport Sector Project | $372,638,379 | Increase cash crop revenue and aggregate visitor spending | $222,253,662 | Percent disbursed on construction contracts. Surfacing complete: Tunduma—Sumbawanga (percent). Surfacing complete: Tanga—Horohoro (percent). Surfacing complete: Namtumba—Songea (percent).
|  |  |  | Surfacing complete: Permiho—Mbinga (percent). Kilometers of roads completed (taken over). Pemba: Percent disbursed on construction contract. Surfacing complete: Pemba (percent). Kilometers of roads completed (taken over): Zanzibar. Road maintenance expenditures: Mainland trunk roads (percent). Road maintenance expenditures: Zanzibar rural roads (percent). Runway surfacing complete (percent).
Water Sector Project | $65,692,145 | Increase investment in human and physical capital and to reduce the prevalence of water-related disease | $40,756,921 | Volume of water produced—Lower Ruvu (millions of liters per day). Operations and maintenance cost recovery—Lower Ruvu (percent). Volume of water produced—Morogoro (millions of liters per day). Operations and maintenance cost recovery—Morogoro (percent).
Program Administration ³ and Control, Monitoring and Evaluation | $51,984,071 |  | $28,763,895
Pending Subsequent Report ⁴

619(b) Transfer or Allocation of Funds: United States agency to which funds were transferred or allocated | 619(b) Transfer or Allocation of Funds: Amount | 619(b) Transfer or Allocation of Funds: Description of program or project
None | None | None
¹ Disbursements are cash outlays rather than expenditures.
² These measures are the same Key Performance Indicators that MCC reports each quarter. The Key Performance Indicators may change over time to more accurately reflect compact implementation progress. The unit for these measures is “a number of” unless otherwise indicated.
³ Program administration funds are used to pay items such as salaries, rent, and the cost of office equipment.
⁴ These amounts represent disbursements made that will be allocated to individual projects in the subsequent quarter(s) and reported as such in subsequent quarterly report(s).
⁵ These compacts are closed; however, deobligations took place during the reporting period.
The following MCC compacts are closed and, therefore, do not have any quarterly disbursements: Benin, Cape Verde I, Honduras, Madagascar, Nicaragua and Vanuatu.

[FR Doc. 2013-12371 Filed 5-23-13; 8:45 am]

BILLING CODE 9211-03-P